DEPARTMENT OF LABOR

Employment and Training Administration

[TA-W-64,391]

Harris Stratex Networks Corporation, Currently Known As Aviat U.S., Inc., dba Aviat Networks, Inc., Production Division, Including On-Site Leased Workers From Manpower, Green Resources and Volt Technical Resources, San Antonio, TX; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on December 9, 2008, applicable to workers of Harris Stratex Networks Corporation, Production Division, including on-site leased workers from Manpower, Green Resources, and Volt Technical Resources, San Antonio, Texas. The notice was published in the Federal Register on December 30, 2008 (73 FR 79914).

At the request of the State agency, the Department reviewed the certification for workers of the subject firm. The workers were engaged in the production of Truepoint 5000 XCVR microwave radios and are separately identifiable from workers producing other microwave radios.

New information shows that following an earlier merger, Harris Stratex Networks, Inc. is currently known as Aviat U.S., Inc., dba Aviat Networks, Inc. Workers separated from employment at the subject firm have their wages reported under a separate unemployment insurance (UI) tax account under the name Aviat U.S., Inc., dba Aviat Networks, Inc.

Accordingly, the Department is amending this certification to properly reflect this matter.

The intent of the Department's certification is to include all workers of the subject firm who were adversely affected by increased imports following a shift in production to Malaysia and Taiwan.

The amended notice applicable to TA-W-64,391 is hereby issued as follows:

“All workers of Harris Stratex Networks Corporation, currently known as Aviat U.S., Inc., dba Aviat Networks, Inc., Production Division, engaged in employment related to the production of Truepoint 5000 XCVR microwave radios, including on-site leased workers from Manpower, Green Resources, and Volt Technical Services, San Antonio, Texas, who became totally or partially separated from employment on or after November 6, 2007, through December 9, 2010, are eligible to apply for adjustment assistance under Section 223 of the Trade Act of 1974, and are also eligible to apply for alternative trade adjustment assistance under Section 246 of the Trade Act of 1974.”

Signed at Washington, DC, this 25th day of May 2010.
Elliott S. Kushner,
Certifying Officer, Division of Trade Adjustment Assistance.

[FR Doc. 2010-13638 Filed 6-7-10; 8:45 am]

BILLING CODE 4510-FN-P